DEPARTMENT OF TRANSPORTATION

Federal Railroad Administration

[Docket Number FRA-2002-12509]

Notice of Public Hearing; Burlington Northern and Santa Fe Railway

The Burlington Northern and Santa Fe Railway has petitioned the Federal Railroad Administration (FRA) seeking approval of the proposed discontinuance and removal of the traffic control system, on the main tracks between milepost 437.2, near Sapulpa, Oklahoma and milepost 579.3, Mill Creek, Oklahoma, on the Texas Division, Creek Subdivision, a distance of approximately 142 miles, associated with the implementation of Track Warrant Control to govern train movements. This block signal application proceeding is identified as Docket No. FRA-2002-12509.

The FRA has issued a public notice seeking comments of interested parties and has conducted its own field investigation in this matter. After examining the carrier's proposal, letters of protest, and the field report, the FRA has determined that a public hearing is necessary before a final decision is made on this proposal.

Accordingly, a public hearing is hereby set for 9 a.m. on Thursday, June 5, 2003, in the Ada City Hall West Annex, 210 West 13th Street, Ada, Oklahoma 74820. Interested parties are invited to present oral statements at the hearing.

The hearing will be an informal one and will be conducted in accordance with Rule 25 of the FRA rules of practice (49 CFR part 211.25), by a representative designated by the FRA.

The hearing will be a non adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC on May 1, 2003.
George A. Gavalla,
Associate Administrator for Safety.

[FR Doc. 03-11448 Filed 5-7-03; 8:45 am]

BILLING CODE 4910-06-P